DEPARTMENT OF TRANSPORTATION

Research and Special Programs Administration

Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR Part 107, Subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received by on or before July 28, 2004.

ADDRESS COMMENTS TO: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington, DC, or at http://dms.dot.gov.

This notice of receipt of applications for modification of exemption is published in accordance with Part 107 of the Federal hazardous materials transportation law (49 U.S.C. 5117(b); 49 CFR 1.53(b)).

Issued in Washington, DC, on June 23, 2004.
R. Ryan Posten,
Exemptions Program Officer, Office of Hazardous Materials Safety Exemptions & Approvals.

New Exemptions for June 2004
Application No. | Docket No. | Application | Regulation(s) affected | Nature of exemption thereof
13580-N |  | Carleton Technologies Inc., Orchard Park, NY | 49 CFR 178.65 | To authorize the manufacture, marking, sale and use of non-DOT specification pressure vessels for use in transporting certain compressed gases. (Modes 1, 2, 4.)
13581-N |  | Bengal Products Inc., Baton Rouge, LA | 49 CFR 173.306(a)(3) | To authorize the transportation in commerce of certain aerosols in packagings manufactured under DOT-E 12573 as consumer commodity ORM-D. (Modes 1, 2, 3, 4.)
13582-N |  | Linde Gas LLC (Linde), Independence, OH | 49 CFR 173.301(j) | To authorize the transportation in commerce of certain cylinders manufactured to a foreign specification for use in transporting certain Zone A toxics. (Modes 1, 3.)
13583-N |  | Structural Composites Industries (SCI), Pomona, CA | 49 CFR 178.35 | To authorize the manufacture, marking, sale and use of non-DOT specification DOT-CFFC standard cylinders for use in transporting certain compressed gases.
13584-N |  | Degussa Corporation, Parsippany, NJ | 49 CFR 177.848 | To authorize the transportation in commerce of certain hazardous materials to be transported together in the same transport vehicle. (Mode 1.)
1385-N |  | Texaco Ovonic Hydrogen Systems, L.L.C., Rochester Hills, MI | 49 CFR 173.301(a)(1) | To authorize the transportation in commerce of non-DOT specification cylinders for use in transporting hydrogen in a metal hydride storage system. (Mode 1.)

[FR Doc. 04-14639 Filed 6-25-04; 8:45 am]

BILLING CODE 4909-60-M